DEPARTMENT OF AGRICULTURE

Submission for OMB Review; Comment Request

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding these information collections are best assured of having their full effect if received by September 28, 2020. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: USDA Farmers Market Application.

OMB Control Number: 0581-0229.

Summary of Collection: The Agricultural Marketing Act of 1946 (7 U.S.C. 1621-1627) directs and authorizes the Secretary to conduct, assist, and foster research, investigation, and experimentation to determine the best methods of processing, preparation for market packaging, handling, transporting, distributing, and marketing agricultural products. It is the mission of AMS to experiment with direct marketing techniques and to educate consumers on the benefits of the use of such agricultural products. The USDA Farmers Market falls well within these guidelines.

Need and Use of the Information: The information collected on the Application allows AMS the means to review and select participants for the annual market season. Applicants can apply online at www.ManageMyMarket.com. The type of information requested on the website for the application includes: (1) Certification the applicant is the owner or representative of the farm or business; (2) applicant contact information including name(s), address, phone number, and email address; (3) farm or business location; (4) types of products grown or to be sold; (5) business practices and direct sourcing relationships with local farmers, ranchers and growers; (6) weekly sales data; (7) insurance coverage; and (8) all applicable food safety documents. Vendors selected to the market provide a signed copy of the Participant Agreement, which states that the vendor has read, understands and agrees to adhere to all applicable rules and guidelines as outlined in the USDA Farmers Market Rules, Procedures, and Operating Guidelines. Sales Data is collected from vendors weekly. This information is useful in letting AMS know how well the market and vendors are doing overall.

Description of Respondents: Business or other for-profit; Farms; Individuals.

Number of Respondents: 68.

Frequency of Responses: Reporting: Annually.

Total Burden Hours: 201.

Rachelle Ragland-Greene,
Departmental Information Collection Officer.

[FR Doc. 2025-07159 Filed 4-24-25; 8:45 am]

BILLING CODE 3410-02-P